DEPARTMENT OF COMMERCE

National Oceanic and Atmospheric Administration

RIN 0648-XF513

Atlantic Highly Migratory Species; Atlantic Bluefin Tuna Fisheries

AGENCY: National Marine Fisheries Service (NMFS), National Oceanic and Atmospheric Administration (NOAA), Commerce.

ACTION: Notice of receipt of an application for an exempted fishing permit; request for comments.

SUMMARY: NMFS has made a preliminary determination that an application for an exempted fishing permit (EFP) warrants further consideration and an opportunity for public comment. The application was submitted by the Cape Cod Commercial Fishermen's Alliance (CCCFA), requesting an exemption from the regulation that prohibits having unauthorized gear on board while fishing for, retaining, or possessing a bluefin tuna. The applicants suggest that with the use of electronic monitoring (EM) and through issuance of an EFP, there would be sufficient at-sea monitoring to verify the catch of bluefin tuna occurred with authorized gear (e.g., rod and reel and harpoon gear). NMFS requests public comment on the information provided in this notice and the application submitted.

DATES: Comments must be received by August 1, 2017.

ADDRESSES: You may submit comments on this notice, identified by 0648-XF513, by either of the following methods:

• Email: NMFS.EMEFP.2017@noaa.gov.

• Mail: Craig Cockrell, Highly Migratory Species Management Division (F/SF1), NMFS, 1315 East-West Highway, Silver Spring, MD 20910. Please mark the outside of the envelope “Comments on 2017 CCCFA EM EFP application.”

FOR FURTHER INFORMATION CONTACT: A copy of the application can viewed at the following Web site: http://www.nmfs.noaa.gov/sfa/hms/compliance/efp/index.html; or by contacting Craig Cockrell, Highly Migratory Species Management Division, NMFS, (301) 427-8503.

SUPPLEMENTARY INFORMATION: NMFS published a notice of intent to issue EFPs, Scientific Research Permits, Letters of Acknowledgement, and Chartering Permits for Atlantic highly migratory species (HMS) in 2017 (81 FR 80646, November 16, 2016). Although that notice anticipated a variety of applications, it stated that occasionally NMFS receives applications for activities that were not anticipated at the time of the general notice and that NMFS would provide additional opportunity for public comment if that were to occur.

As discussed in the November 2016 notice of intent to issue EFPs and other permits, issuance of EFPs and related permits are necessary for the collection of HMS for public display and scientific research to exempt them from specified regulations (e.g., fishing seasons, prohibited species, authorized gear, closed areas, and minimum sizes) that may otherwise prohibit such collection. Specifically, NMFS may authorize activities otherwise prohibited by the regulations at 50 CFR part 635 for the conduct of scientific research; the acquisition of information and data; the enhancement of safety at sea; the purpose of collecting animals for public education or display; the investigation of bycatch, economic or regulatory discard; or for chartering arrangements. See 50 CFR 635.32(a)(1). The terms and conditions of individual permits are unique; however, most permits include reporting requirements, limit the number and species of HMS to be collected, and only authorize collection in Federal waters of the Atlantic Ocean, Gulf of Mexico, and Caribbean Sea. EFPs and related permits are issued under the authority of the Magnuson-Stevens Fishery Conservation and Management Reauthorization Act (Magnuson-Stevens Act) (16 U.S.C. 1801 et seq.) and/or the Atlantic Tunas Convention Act (ATCA) (16 U.S.C. 971 et seq.). Regulations at 50 CFR 600.745 and 635.32 govern exempted fishing permits, as well as scientific research activity, chartering arrangements, and exempted public display and educational activities.

Current Atlantic HMS regulations specify that a person that fishes for, retains, or possesses an Atlantic bluefin tuna may not have on board a vessel or use on board a vessel any primary gear other than those authorized for the category for which the Atlantic tunas or HMS permit has been issued for such vessel. See 50 CFR 635.19(b). As a result, vessels that are permitted in other fisheries that use gears that are not authorized for Atlantic tunas must remove these gears before fishing for, retaining, or possessing a bluefin tuna. This regulation allows enforcement agents to readily verify that only the authorized gear type was used to catch the bluefin tuna (rod and reel or harpoon). This regulation also serves as an effort control for bluefin tuna as it limits the number of vessels that can actively pursue bluefin tuna to those with only authorized gear.

The CCCFA would like to test the effectiveness of EM for confirming authorized gear is used to catch Atlantic tunas, while unauthorized gear (for tunas) is onboard. Fishermen would be targeting groundfish with benthic longline, jigging machines, handgear, demersal gillnet (6.5-inch groundfish and 10-12-inch tie-down monkfish gillnet), or otter trawl. The applicants would commit to 100 percent of the trips being recorded and 100 percent of the footage being reviewed. Video footage would be reviewed by Ecotrust Canada, a third-party EM service provider. Also, vessels using harpoon gear would have EM camera views that would allow for viewing all fishing operations to ensure compliance, including adding necessary cameras to cover the pulpit and harpoon throw.

The CCCFA has requested that four vessels be exempted from the regulations at 50 CFR 635.19(b). These vessels would be listed as authorized vessels on the EFP and would also possess Atlantic Tunas General Category permits and/or Swordfish General Commercial permits. If granted, this EFP would expire on December 31, 2017.

NMFS finds this application warrants further consideration. The agency may impose possible conditions on this EFP, if it is granted, based on consideration of public comments and further analyses. The submission of reports on the exempted fishing activities would be due within 5 days of the completion of fishing trips, as well as a summary report within 30 days of the expiration of the EFP, if issued.

NMFS requests comments and offers a 15-day comment period on this notice, consistent with EFP regulations at 50 CFR 600.745.

Authority: 16 U.S.C. 971 et seq. and 1801 et seq.

Dated: July 12, 2017.
Emily H. Menashes,
Acting Director, Office of Sustainable Fisheries, National Marine Fisheries Service.

[FR Doc. 2017-14935 Filed 7-14-17; 8:45 am]

BILLING CODE 3510-22-P